DEPARTMENT OF HEALTH AND HUMAN SERVICES

Food and Drug Administration

[Docket No. FDA-2011-N-0109]

Exchange of Letters Between Dr. Murray M. Lumpkin, Deputy Commissioner, International Programs, Food and Drug Administration and Mr. Martin Heraghty, Assistant Secretary General, Department of Agriculture, Fisheries and Food of Ireland Concerning Certification Requirements for Caseins, Caseinates, and Mixtures Thereof Exported From Ireland to the United States

AGENCY: Food and Drug Administration, HHS.

ACTION: Notice.

SUMMARY: The Food and Drug Administration (FDA) is providing notice of exchange of letters between Dr. Murray M. Lumpkin, Deputy Commissioner, International and Special Programs, FDA and Mr. Martin Heraghty, Assistant Secretary General, Department of Agriculture, Fisheries and Food (DAFF), concerning certification requirements for caseins, caseinates, and mixtures thereof exported from Ireland to the United States.

The mutual goals of FDA and DAFF in establishing certification requirements for caseins, caseinates, and mixtures thereof exported from Ireland to the United States are to assure that contaminated products will not be imported into the United States and to minimize the need for extensive FDA audit sampling of these products from Ireland. DAFF and FDA have a history of cooperation on this issue and it is, therefore, desirable that the two Agencies continue to cooperate to maintain and improve consumer protection.

DATES: The agreement became effective November 10, 2010.

FOR FURTHER INFORMATION CONTACT: David P. Kelly, Office of International Programs, Food and Drug Administration, 10903 New Hampshire Ave., Bldg. 31, rm. 3404, Silver Spring, MD 20993-0002, 301-796-8373, Fax: 301-595-7941.

SUPPLEMENTARY INFORMATION: In accordance with 21 CFR 20.108(c), which states that all written agreements and understandings between FDA and others shall be published in the Federal Register, the Agency is publishing notice of this agreement.

Dated: March 10, 2011.
Leslie Kux,
Acting Assistant Commissioner for Policy.

BILLING CODE 4160-01-P

[FR Doc. 2011-6079 Filed 3-15-11; 8:45 am]

BILLING CODE 4160-01-C